DEPARTMENT OF THE TREASURY

Solicitation of Public Comments to the President's Advisory Council on Financial Literacy

AGENCY: Office of Financial Education, Treasury.

ACTION: Notice of request for public comments.

SUMMARY: The President's Advisory Council on Financial Literacy, which convened its first meeting on Wednesday, February 13, 2008, hereby solicits public comments on the state of financial literacy in the United States and proposed solutions to improve it, as detailed in the SUPPLEMENTARY INFORMATION section of this notice.

DATES: Comments are requested to be submitted by May 23, 2008.

ADDRESSES: The public is invited to submit written statements to the President's Advisory Council on Financial Literacy as follows:

Statements may be e-mailed to financialliteracycouncil@do.treas.gov, or sent in triplicate form to the President's Advisory Council on Financial Literacy, Office of Financial Education, Room 1332, Department of the Treasury, 1500 Pennsylvania Avenue, NW., Washington, DC 20220. The Department will make such statements available for public inspection and copying in the Department's Library, Room 1428, Main Department Building, 1500 Pennsylvania Avenue, NW., Washington, DC 20220, on official business days between the hours of 10 a.m. and 5 p.m. Eastern Time. You can make an appointment to inspect statements by telephoning (202) 622-0204. All statements, including attachments and other supporting materials, received are part of the public record and subject to public disclosure. You should submit only information that you wish to make available publicly.

FOR FURTHER INFORMATION CONTACT: Edwin Bodensiek, Director of Outreach, Department of the Treasury, Main Department Building, 1500 Pennsylvania Avenue, NW., Washington, DC 20220, at ed.bodensiek@do.treas.gov.

SUPPLEMENTARY INFORMATION: The Council was established to promote and enhance financial literacy among the American people. One of the functions of the Council is to obtain information and advice concerning financial literacy. Upon consideration of such information and advice, the Council will advise the President and Secretary of the Treasury on means to improve financial education efforts, promote effective access to financial services, establish effective measures of financial literacy, conduct research on financial knowledge, and strengthen and coordinate financial education programs.

Request for comments: Comments are specifically requested concerning the following questions.

(1) Youth financial literacy: How can financial literacy among young people be improved?

(2) Financial education in the workplace: How can financial education be provided in the workplace? What financial education issues should be addressed in the workplace?

(3) Financial access for underserved markets: How can access to financial services be increased in underserved markets? What markets are underserved for financial services?

(4) Financial literacy research: What questions should be answered to provide a thorough understanding of the current state of financial literacy in the country? What are the gaps in existing research on financial literacy?

(5) Outreach and awareness: What are the best ways to communicate to those who lack awareness of financial education resources?

Commenters are urged to keep comments succinct. Commenters are asked to number their answers so that they correspond to the specific question being addressed if their response addresses one of those topics.

Dated: March 12, 2008.
Taiya Smith,
Executive Secretary.

[FR Doc. E8-5480 Filed 3-18-08; 8:45 am]

BILLING CODE 4811-42-P